DEPARTMENT OF COMMERCE

National Oceanic and Atmospheric Administration

50 CFR Part 229

[Docket No. 010510119-1119-01; I.D. 050901B]

RIN 0648-AP27

Taking of Marine Mammals Incidental to Commercial Fishing Operations; Atlantic Large Whale Take Reduction Plan

Correction

In rule document 01-12326 beginning on page 27042 in the issue of Wednesday, May 16, 2001, make the following correction:

On page 27042 in the third cloumn, in the “DATES” section, in the third line, “through May 30, 2001” should read “through May 28, 2001”.

[FR Doc. C1-12326 Filed 5-25-01; 8:45 am]

BILLING CODE 1505-01-D